DEPARTMENT OF STATE

[Public Notice 3933]

Bureau of Human Resources, Office of Recruitment, Examination, and Employment, Recruitment Division; 30-Day Notice of Proposed Information Collection: OMB Control Number #1400-0007; Form #DS-1950, Application for Employment

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Reinstatement, with change, of a previously approved collection.

Originating Office: Bureau of Human Resources (HR/REE/REC).

Title of Information Collection: Department of State Application for Employment.

Frequency: Four application periods per year.

Form Number: DS-1950.

Respondents: U.S. citizens seeking entry into the Department of State Foreign Service and individuals, Sophomore through Graduate level college and university students, seeking participation in the Department's student programs.

Estimated Number of Respondents: 25,000.

Average Hours Per Response: ½ hour per response per part.

Total Estimated Burden: 14,500.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from the Office of Recruitment, Examination, and Employment, Recruitment Division, 2401 E Street, NW., Room 518, (202) 261-8897, U.S. Department of State, Washington, DC 20520. Public comments and questions should be directed to the State Department Desk Officer, Office of Information and Regulatory Affairs, Office of Management and Budget (OMB), Washington, DC 20530, who may be reached on 202-395-3897.

Dated: February 12, 2002.
Ruben Torres,
Executive Director, Bureau of Human Resources, U.S. Department of State.

[FR Doc. 02-4931 Filed 2-28-02; 8:45 am]

BILLING CODE 4710-15-P